DEPARTMENT OF ENERGY

Federal Energy Regulatory Commission

[Docket No. EC01-30-000, et al.]

Canal Emirates Power International, Inc., et al.; Electric Rate and Corporate Regulation Filings

November 28, 2000.

Take notice that the following filings have been made with the Commission:

1. Canal Emirates Power International, Inc. and IPP Energy LLC

[Docket No. EC01-30-000]

Take notice that on November 22, 2000, Canal Emirates Power International, Inc. (Canal) and IPP energy LLC (IPP) (collectively, Applicants), hereby request that the Commission grant approval of the transfer of the Binghamton generating facility and its associated generator step-up transformer and interconnection equipment owned by Canal to IPP. Applicants request confidential treatment of Exhibit H of the Application.

Comment date: December 13, 2000, in accordance with Standard Paragraph E at the end of this notice.

2. AES NewEnergy, Inc., NEV East, L.L.C., NEV Midwest, L.L.C., NEV California, L.L.C.

[Docket No. EC01-31-000]

Take notice that on November 22, 2000, AES NewEnergy, Inc., NEV East, L.L.C., NEV Midwest, L.L.C. and NEV California, L.L.C. tendered for filing with the Federal Energy Regulatory Commission an application for approval of the disposition of jurisdictional facilities under section 203 of the Federal Power Act in the above-referenced docket, that will be part of an intra-corporate reorganization. These jurisdictional facilities are wholesale power contracts and the associated books and records that will be assigned to AES NewEnergy, Inc.

Comment date: December 12, 2000, in accordance with Standard Paragraph E at the end of this notice.

3. Idaho Power Company and Avista Corporation

[Docket No. EC01-32-000]

Take notice that on November 20, 2000, Idaho Power Company and Avista Corporation tendered for filing an Application for Authorization Under Section 203 of the Federal Power Act. Specifically, Idaho Power seeks to sell, and Avista seeks to purchase, jurisdictional transmission facilities consisting of a 20.23 mile section of the Lolo-Oxbow line located in Oregon between Divide Creek and Imnaha.

Applicants are also filing concurrently applications for amendment of Idaho Power's license for Project No. 1971 (deleting from the license the facilities to be transferred), and amendment of Avista's transmission line minor-part license for Project No. 2261 (adding to the license the facilities to be transferred).

Comment date: December 11, 2000, in accordance with Standard Paragraph E at the end of this notice.

4. Illinois Power Company

[Docket No. ER01-99-4415-005]

Take notice that on November 24, 2000, Illinois Power Company (Illinois Power), 500 South 27th Street, Decatur, Illinois 65251-2200, submitted for filing a Refund Report as required by the Letter Order of October 12, 2000 in Docket Nos. ER99-4415-000, et al.

Illinois Power states that a copy of the Refund Report has been served on all parties in Docket Nos. ER99-4415-000, et al. and the Illinois Commerce Commission.

Comment date: December 15, 2000, in accordance with Standard Paragraph E at the end of this notice.

5. DTE Energy Services, Inc., DTE Georgetown, LLC, DTE Georgetown Holdings, Inc.

[Docket No. EC01-29-000]

Take notice that on November 21, 2000, DTE Energy Services, Inc., DTE Georgetown, LLC (Georgetown) and DTE Georgetown Holdings, Inc. (Applicants) tendered for filing an application for authorization pursuant to Section 203 of the Federal Power Act for an intra-corporate change in the upstream ownership of Georgetown. Also, on November 22, 2000, the Applicants submitted Attachment D (draft of the limited partnership agreement) which was inadvertently left off of the Application.

A copy of this Application and Attachment D have been served on the Michigan Public Service Commission.

Comment date: December 11, 2000, in accordance with Standard Paragraph E at the end of this notice.

6. GenPower Anderson, LLC

[Docket No. EG01-34-000]

Take notice that on November 22, 2000, GenPower Anderson, LLC (Applicant), a Delaware limited liability company, whose address is 1040 Great Plain Avenue, Needham, MA, filed with the Federal Energy Regulatory Commission an application for determination of exempt wholesale generator status pursuant to part 365 of the Commission's regulations.

Applicant intends to construct an approximate 640 MW natural gas-fired combined cycle independent power production facility in Anderson, South Carolina (the Facility). The Facility is currently under development and will be owned by Applicant. Electric energy produced by the Facility will be sold by Applicant to the wholesale power market in the southern United States.

Comment date: December 19, 2000, in accordance with Standard Paragraph E at the end of this notice. The Commission will limit its consideration of comments to those that concern the adequacy or accuracy of the application.

7. GenPower Keo, LLC

[Docket No. EG01-35-000]

Take notice that on November 22, 2000, GenPower Keo, LLC (Applicant), a Delaware limited liability company, whose address is 1040 Great Plain Avenue, Needham, MA, filed with the Federal Energy Regulatory Commission an application for determination of exempt wholesale generator status pursuant to part 365 of the Commission's regulations.

Applicant intends to construct an approximate 240 MW natural gas-fired combined cycle independent power production facility in Keo, Arkansas (the Facility). The Facility is currently under development and will be owned by Applicant. Electric energy produced by the Facility will be sold by Applicant to the wholesale power market in the southern United States.

Comment date: December 19, 2000, in accordance with Standard Paragraph E at the end of this notice. The Commission will limit its consideration of comments to those that concern the adequacy or accuracy of the application.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-222 for assistance).

David P. Boergers,
Secretary.

[FR Doc. 00-31122 Filed 12-6-00; 8:45 am]

BILLING CODE 6717-01-M